DEPARTMENT OF TRANSPORTATION

Federal Aviation Administration

Notice of Intent To Request Revision From the Office of Management and Budget of a Currently Approved Information Collection Activity, Request for Comments; Suspected Unapproved Parts Notification

AGENCY: Federal Aviation Administration (FAA), DOT.

ACTION: Notice and request for comments.

SUMMARY: The FAA invites public comments about our intention to request the Office of Management and Budget (OMB) to approve a current information collection. The information collected on the FAA Form 8120-11 is used by those who wish to report suspected unapproved parts to the FAA for review.

DATES: Please submit comments by February 23, 2009.

FOR FURTHER INFORMATION CONTACT: Carla Mauney on (202) 267-9895, or by e-mail at: Carla.Mauney@faa.gov.

SUPPLEMENTARY INFORMATION:

Federal Aviation Administration (FAA)

Title: Suspected Unapproved Parts Notification.

Type of Request: Extension without change of an approved collection.

OMB Control Number: 2120-0552.

Forms(s): 8120-11.

Affected Public: A total of 300 Respondents.

Frequency: The information is collected on occasion.

Estimated Average Burden per Response: Approximately a half hour per response.

Estimated Annual Burden Hours: An estimated 150 hours annually.

Abstract: The information collected on the FAA Form 8120-11 is used by those who wish to report suspected unapproved parts to the FAA for review. The information is used to determine if an unapproved part investigation is warranted.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on December 16, 2008.
Carla Mauney,
FAA Information Collection Clearance Officer, IT Enterprises Business Services Division, AES-200.

[FR Doc. E8-30411 Filed 12-22-08; 8:45 am]

BILLING CODE 4910-13-M